DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

BNSF Railway Company and Ferrocarril Mexican Railway Company

[Waiver Petition Docket Number FRA-2010-0126)]

The BNSF Railway Company (BNSF) and Ferrocarril Mexican Railway Company (FXE) seek a test waiver of compliance from the requirements of 49 CFR 232.205 Class I Brake Test, Initial terminal inspection; 232.409—Inspection and testing of end-of-train devices; and 215.13—Pre-departure Inspection. This test waiver is necessary to allow tests and inspections conducted at Rio Escondido and Torreon, Mexico, by FXE on northbound unit trains to be considered valid for run-through trains interchanged with BNSF at Eagle Pass, Texas, and bound for Temple, Texas. FXE Carmen will perform all Class 1 initial terminal inspections and repairs, and will comply with all parts of 49 CFR 232 and 215, as well as all applicable Association of American Railroads interchange rules. With this test waiver, BNSF and FXE seek to establish to FRA's satisfaction that cross-border commerce can be safely increased by eliminating the congestion of traffic that presently occurs at the border.

BNSF and FXE expect to demonstrate, with this test waiver, that Class 1 initial terminal inspections performed in Mexico by FXE carmen are equally on par with Class 1 initial terminal inspections performed by U.S. railroads to comply with Federal regulation. BNSF and FXE state that the available inspection track on the U.S. side of the border is rudimentary at best with no option for expansion from adjacent landholders, while work environment enhancements are offered at FXE's Rio Escondido and Torreon facilities.

The FXE Rio Escondido facility is a new and modern facility built to facilitate international rail commerce, equipped with the latest in freight car repair technology and tooling, and is staffed with trained and motivated employees. BNSF estimates risk in the work environment is halved by performing inspections and repairs at Rio Escondido or Torreon, as compared to the present U.S. facility.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0126) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC on October 18, 2010.
Robert C. Lauby,
Deputy Associate Administrator for Regulatory and Legislative Operations.

[FR Doc. 2010-26683 Filed 10-21-10; 8:45 am]

BILLING CODE 4910-06-P